DEPARTMENT OF VETERANS AFFAIRS

Privacy Act of 1974; Matching Program

AGENCY: Department of Veterans Affairs (VA).

ACTION: Notice of a modified matching program.

SUMMARY: This is an 18-month re-establishment computer matching agreement (CMA) with the Defense Manpower Data Center (DMDC), Department of Defense (DoD) and the Department of Veterans Affairs (VA), Veterans Benefits Administration (VBA), regarding Veterans who are in return to active duty and in receipt of compensation or pension benefits. The purpose of this CMA is to re-establish the agreement between VA, Veterans Benefits Administration (VBA) and the DoD, DMDC. DoD will disclose information about individuals who have returned to active duty. VBA will use this information as a match for recipients of Compensation and Pension benefits for adjustments of awards.

DATES: Comments on this matching program must be received no later than January 10, 2022. If no public comment is received during the period allowed for comment or unless otherwise published in the Federal Register by VA, the new agreement will become effective a minimum of 30 days after date of publication in the Federal Register. If VA receives public comments, VA shall review the comments to determine whether any changes to the notice are necessary. This matching program will be valid for 18 months from the effective date of this notice.

ADDRESSES: Comments may be submitted through www.Regulations.gov or mailed to VA Privacy Service, 810 Vermont Avenue NW, (005R1A), Washington, DC 20420. Comments should indicate that they are submitted in response to “CMA #2 Return to Active Duty #87”. Comments received will be available at regulations.gov for public viewing, inspection or copies.

FOR FURTHER INFORMATION CONTACT: Charlene Small (VBA), Program Analyst, Department of Veterans Affairs, 810 Vermont Ave. NW, Room 1064, Washington, DC 20420, 202-306-8914, Charlene.small@va.gov.

SUPPLEMENTARY INFORMATION: This agreement continues an arrangement for a periodic computer-matching program between the United States Department of Veterans Affairs (VA), Veterans Benefits Administration (VBA) as the matching recipient agency and the Department of Defense (DoD), Defense Manpower Data Center (DMDC) as the matching source agency. This agreement sets forth the responsibilities of VBA and DoD with respect to information disclosed pursuant to this agreement and considers both agencies' responsibilities under the Privacy Act of 1974, 5 U.S.C. 552a, as amended by the Computer Matching and Privacy Protection Act of 1988, as amended, and the regulations promulgated thereunder, including computer matching portions of a revision of OMB Circular No. A-130, 65 FR 77677 dated December 12, 2000.

PARTICIPATING AGENCIES:

VA, VBA as the matching recipient agency and DoD, DMDC as the matching source agency.

AUTHORITY FOR CONDUCTING THE MATCHING PROGRAM:

The legal authority for conducting the matching program for use in the administration of VA's Compensation and Pension Benefits Programs is contained in 38 U.S.C. 5304(c), Prohibition Against Duplication of Benefits, which precludes pension, compensation, or retirement pay on account of any person's own service, for any period for which he receives active duty pay. The head of any Federal department or agency shall provide, pursuant to 38 U.S.C. 5106, such information as requested by VA for the purpose of determining eligibility for, or amount of benefits, or verifying other information with respect thereto.

PURPOSE(S):

The purpose of this matching program between VBA and DoD is to identify those Veterans and VA beneficiaries who are in receipt of certain VA benefit payments and have returned to active duty. VBA has the obligation to reduce or suspend compensation and pension benefit payments to Veterans who have returned to active duty. VBA will use the DoD records provided in the match to update the master records of Veterans and VA beneficiaries receiving benefits and to adjust their VA benefits, accordingly, if needed.

CATEGORIES OF INDIVIDUALS:

(1) Veterans who have applied for compensation for service-connected disability under 38 U.S.C. Chapter 11.

(2) Veterans who have applied for nonservice-connected disability under 38 U.S.C. Chapter 15.

(3) Veterans entitled to burial benefits under 38 U.S.C. Chapter 23.

(4) Surviving spouses and children who have claimed pensions based on nonservice-connected death of a Veteran under 38 U.S.C. Chapter 15.

(5) Surviving spouses and children who have claimed death compensation based on service-connected death of a Veteran under 38 U.S.C. Chapter 11.

(6) Surviving spouses and children who have claimed dependency and indemnity compensation for service-connected death of a Veteran under 38 U.S.C. Chapter 13.

(7) Parents who have applied for death compensation based on service connected death of a Veteran under 38 U.S.C. Chapter 11.

(8) Parents who have applied for dependency and indemnity compensation for service-connected death of a Veteran under 38 U.S.C. Chapter 13.

(9) Individuals who applied for educational assistance benefits administered by VA under title 38 of the U.S. Code.

(10) Individuals who applied for educational assistance benefits maintained by the Department of Defense under title 10 of the U.S. Code that are administered by VA.

(11) Veterans who apply for training and employers who apply for approval of their programs under the provisions of the Emergency Veterans' Job Training Act of 1983, Public Law 98-77.

(12) Any VA employee who generates or finalizes adjudicative actions using the Benefits Delivery Network (BDN) or the Veterans Service Network (VETSNET) computer processing systems.

(13) Veterans who apply for training and employers who apply for approval of their programs under the provisions of the Service Members Occupational Conversion and Training Act of 1992, Public Law 102-484.

(14) Representatives of individuals covered by the system.

CATEGORIES OF RECORDS:

The record, or information contained in the record, may include:

(1) Identifying information (e.g., name, address, social security number);

(2) Military service and active duty separation information (e.g., name, service number, date of birth, rank, sex, total amount of active service, branch of service, character of service, pay grade, assigned separation reason, service period, whether Veteran was discharged with a disability, reenlisted, received a Purple Heart or other military decoration);

(3) Payment information (e.g., Veteran payee name, address, dollar amount of readjustment service pay, amount of disability or pension payments, number of non-pay days, any amount of indebtedness (accounts receivable) arising from title 38 U.S.C. benefits and which are owed to the VA);

(4) Medical information (e.g., medical and dental treatment in the Armed Forces including type of service connected disability, medical facilities, or medical or dental treatment by VA health care personnel or received from private hospitals and health care personnel relating to a claim for VA disability benefits or medical or dental treatment);

(5) Personal information (e.g., marital status, name and address of dependents, occupation, amount of education of a Veteran or a dependent, dependent's relationship to Veteran);

(6) Education benefit information (e.g., information arising from utilization of training benefits such as a Veteran trainee's induction, reentrance or dismissal from a program or progress and attendance in an education or training program);

(7) Applications for compensation, pension, education and vocational rehabilitation benefits and training—which may contain identifying information, military service and active duty separation information, payment information, medical and dental information, personal and education benefit information relating to a Veteran or beneficiary's incarceration in a penal institution (e.g., name of incarcerated Veteran or beneficiary, claims folder number, name and address of penal institution, date of commitment, type of offense, scheduled release date, Veteran's date of birth, beneficiary relationship to Veteran and whether Veteran or beneficiary is in a work release or half-way house program, on parole or has been released from incarceration);

(8) VA employee's BDN or VETSNET identification numbers, the number and kind of actions generated and/or finalized by each such employee, the compilation of cases returned for each employee.

SYSTEM(S) OF RECORDS:

Compensation, Pension, Education, and Vocational Rehabilitation and Employment Records—VA (58 VA 21/22/28), published at 86 FR 61858 (November 8, 2021), last amended at 84 FR 4138 on February 14, 2019.

Signing Authority

The Senior Agency Official for Privacy, or designee, approved this document and authorized the undersigned to sign and submit the document to the Office of the Federal Register for publication electronically as an official document of the Department of Veterans Affairs. Joseph S. Stenaka, Executive Director for Information Security Operations, Chief Privacy Officer and Chair of the VA Data Integrity Board approved this document on November 30, 2021 for publication.

Dated: December 3, 2021.
Amy L. Rose,
Program Analyst, VA Privacy Service, Office of Information Security, Office of Information and Technology, Department of Veterans Affairs.

[FR Doc. 2021-26610 Filed 12-8-21; 8:45 am]

BILLING CODE 8320-01-P